SMALL BUSINESS ADMINISTRATION

[Declaration of Economic Injury Disaster #9W74]

State of Montana; (Amendment #1)

The above numbered declaration is hereby amended to include Beaverhead, Granite, Park, Ravalli, Stillwater and Sweet Grass Counties in the State of Montana as an economic injury disaster area due to the effects of the forest fires that began on July 23, 2003, and continue to burn.

In addition, applications for economic injury loans from small businesses located in the contiguous counties of Carbon, Deer Lodge, Gallatin, Golden Valley, Madison, Silver Bow, Wheatland and Yellowstone Counties in the State of Montana; Park County in the State of Wyoming; and Clark, Fremont, Idaho and Lemhi Counties in the State of Idaho may be filed until the specified date at the previously designated location.

The number assigned for economic injury is 9W9000 for Wyoming.

All other information remains the same, i.e., the deadline for filing applications for economic injury is May 26, 2004.

(Catalog of Federal Domestic Assistance Program No. 59002)
Dated: September 11, 2003.
Hector V. Barreto,
Administrator.

[FR Doc. 03-23977 Filed 9-18-03; 8:45 am]

BILLING CODE 8025-01-P